DEPARTMENT OF THE INTERIOR

Fish and Wildlife Service

50 CFR Part 17

RIN 1018-AU31

Endangered and Threatened Wildlife and Plants; Opening of the Comment Period for the Proposed and Final Designation of Critical Habitat for the Klamath River and Columbia River Populations of Bull Trout

AGENCY: Fish and Wildlife Service, Interior.

ACTION: Final rule; opening of comment period.

SUMMARY: We, the U.S. Fish and Wildlife Service (Service), announce the opening of a public comment period on the proposed and final designation of critical habitat for the Klamath River and Columbia River populations of bull trout (Salvelinus confluentus). Due to court action, we have determined that it would be appropriate to reevaluate the exclusions made in the final critical habitat rule. We are opening this comment period to allow all interested parties to comment simultaneously on the November 29, 2002, proposed rule (67 FR 71235) and the October 6, 2004, final rule (69 FR 59996). Copies of the proposed and final rules, as well as the economic analysis for the critical habitat designation, are available on the Internet at http://pacific.fws.gov/bulltrout or from the Portland Regional Office at the address and contact numbers below.

DATES: We will accept public comments until June 24, 2005.

ADDRESSES: Written comments and materials may be submitted to us by any one of the following methods:

1. You may submit written comments and information to John Young, Bull Trout Coordinator, U.S. Fish and Wildlife Service, Ecological Services, 911 NE 11th Avenue, Portland, OR 97232;

2. You may hand-deliver written comments and information to our office, at the above address, or fax your comments to 503/231-6243; or

3. You may also send comments by electronic mail (e-mail) to R1BullTroutCH@r1.fws.gov. For directions on how to submit electronic filing of comments, see the “Public Comments Solicited” section. In the event that our internet connection is not functional, please submit your comments by the alternate methods mentioned above.

FOR FURTHER INFORMATION CONTACT: John Young, at the address above (telephone 503/231-6194; facsimile 503/231-6243).

SUPPLEMENTARY INFORMATION:

Background

We published a proposed rule to designate critical habitat for the Klamath River and Columbia River populations of bull trout on November 29, 2002 (67 FR 71235). The proposed critical habitat designation included approximately 18,471 miles (mi) (29,720 kilometers (km)) of streams, and 532,721 acres (ac) (215,585 hectares (ha)) of lakes and reservoirs on Oregon, Washington, Idaho, and Montana. The final critical habitat designation was published on October 6, 2004 (69 FR 59996), and included approximately 1,748 mi (2,813 km) of streams and 61,235 ac (24,781 ha) of lakes and marshes. On December 14, 2004, Alliance for the Wild Rockies et al. (plaintiffs) filed a complaint challenging the adequacy of the final designation. In particular, the plaintiffs challenged the exclusions made in the final rule, pursuant to section 4(b)(2) of the Act.

Critical habitat receives protection from destruction or adverse modification through required consultation under section 7 of the Act, with regard to actions carried out, funded, or authorized by a Federal agency. Section 4(b)(2) of the Act requires that “The Secretary shall designate critical habitat, and make revisions thereto, under subsection (a)(3) of this section on the basis of the best scientific data available and after taking into consideration the economic impact, and any other relevant impact, of specifying any particular area as critical habitat. The Secretary may exclude any area from critical habitat if she determines that the benefits of such exclusion outweigh the benefits of specifying such area as part of the critical habitat, unless she determines, based on the best scientific and commercial data available, that the failure to designate such area as critical habitat will result in the extinction of the species concerned.”

The economic analysis estimated the potential economic effects over a 10-year period would range from $200 to $260 million ($20 to $26 million per year) for the bull trout. It is expected that Federal agencies will bear 70 percent of these costs. The total estimated costs associated with bull trout consultation is expected to be $9.8 million annually, and total project modification costs are expected to range from $19.5 to $26.1 million annually. Economic costs were considered in balancing the benefits of including and excluding areas from critical habitat. The economic analysis is available on the Internet and from the mailing address in the ADDRESSES section above.

Once the public comment period has closed, we will compile all comments and data received and consider them for use in our reevaluation of the final rule. We will then reconsider all of the relevant impacts of designating the proposed areas as critical habitat on the basis of our administrative record. We do not intend to contract for a new formal economic analysis, but we will consider any new information received regarding the economic impacts of the designation. Upon completion of the reconsideration process, we will issue a new final rule designating critical habitat for the Klamath River and Columbia River populations of bull trout.

Public Comments Solicited

We intend that any final action resulting from our November 2002 proposal will be as accurate and as effective as possible. Therefore, we solicit comments or suggestions from the public, other concerned governmental agencies, the scientific community, industry, or any other interested party concerning the portion of the proposed rule subject to reevaluation. We will accept written comments and information during this comment period on the November 29, 2002, proposed rule (67 FR 71235) and the October 6, 2004, final rule (69 FR 59996). On the basis of public comment, during the development of our new final determination, we may find that areas proposed are not essential, are appropriate for exclusion under section 4(b)(2), or not appropriate for exclusion. In all of these cases, this information would be incorporated into our new final determination with respect to those areas. We specifically seek comments on:

(1) The reasons why any of the habitat identified in this rule should or should not be determined to be critical habitat as provided by section 4 of the Act, including whether the benefits of exclusion outweigh the benefits of specifying such area as part of critical habitat;

(2) Information related to the benefits of designating any specific areas as critical habitat for the bull trout;

(3) Information related to the benefits of excluding any specific areas as critical habitat for the bull trout;

(4) Specific information on the amount and distribution of bull trout habitat, and why those particular amounts and distributions of habitat are essential to the conservation of this species;

(5) Any effects of the Ninth Circuit's recent decision in Gifford Pinchot Task Force v. U.S. Fish and Wildlife Service, 378 F.3d 1059 (Ninth Cir. 2004) that we should consider in our review of the final designation of critical habitat for the Klamath River and Columbia River populations of bull trout (69 FR 59996);

(6) Any foreseeable economic or other impacts resulting from the designation of critical habitat, in particular, any previously unidentified impacts on small entities or families;

(7) Whether the draft economic analysis identifies all State and local economic costs and economic benefits attributable to the critical habitat designation. If not, what costs and benefits are overlooked;

(8) Are the adjustments to local governments' economic data made by the economic analysis reasonable? If not, please provide alternative interpretations and the justification for the alternative, and/or the reasons the interpretation in the economic analysis is not correct;

(9) Any previously unidentified impacts associated with likely regulatory changes as a result of the designation of critical habitat;

(10) Any previously unidentified regional costs or benefits associated with land use controls that derive from the designation, to the extent possible economic cost or benefit analysis should be included as the Service will not conduct additional economic analysis on this rule;

(11) Whether the designation will result in disproportionate economic impacts to specific areas that should be evaluated for possible exclusion from the final designation;

(12) Some of the lands we have identified as essential for the conservation of the bull trout were excluded from critical habitat designation. We specifically solicit comment on the inclusion or exclusion of such areas and:

(a) Whether these areas are essential and why;

(b) The benefits of including these areas as essential habitat;

(c) The benefits of excluding these areas as essential habitat;

(13) With specific reference to the recent amendments to sections 4(a)(3) and 4(b)(2) of the Act, we request information from the Department of Defense to assist the Secretary of the Interior in making a determination as to whether to exclude critical habitat on lands administered by or under the control of the Department of Defense based on the benefit of an Integrated Natural Resources Management Plan (INRMP) to the conservation of the species; and information regarding impacts to national security associated with designation of critical habitat; and

(14) Whether our approach to critical habitat designation could be improved or modified in any way to provide for greater public participation and understanding, or to assist us in accommodating public concern and comments.

(15) Whether contemplated changes to Federal land management plans should be considered and if so, how.

Refer to the ADDRESSES section for information on how to submit written comments and information. Our final determination on critical habitat for the Klamath River and Columbia River populations of bull trout will take into consideration all comments and any additional information received.

Please submit electronic comments in an ASCII file format and avoid the use of special characters and encryption. Please also include “Attn: RIN 1018-AU31” and your name and return address in your e-mail message. If you do not receive a confirmation from the system that we have received your e-mail message, please contact the Bull Trout Coordinator (see ADDRESSES section).

Our practice is to make comments, including names and home addresses of respondents, available for public review during regular business hours. Individual respondents may request that we withhold their home addresses from the rulemaking record, which we will honor to the extent allowable by law. In some circumstances, we would withhold from the rulemaking record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

Comments and materials received, as well as supporting documentation used to designate critical habitat, will be available for inspection, by appointment, during normal business hours, in the U.S. Fish and Wildlife Service Office at the above address.

Copies of the final economic analysis and proposed and final rules are available on the Internet at: http://pacific.fws.gov/bulltrout or from the Bull Trout Coordinator at the address and contact numbers above.

Author

The primary author of this notice is the U.S. Fish and Wildlife Service.

Authority

The authority for this action is the Endangered Species Act of 1973 (16 U.S.C. 1531 et seq.).

Dated: May 16, 2005.
Paul Hoffman,
Acting Assistant Secretary for Fish and Wildlife and Parks.

[FR Doc. 05-10246 Filed 5-24-05; 8:45 am]

BILLING CODE 4310-55-P